DEPARTMENT OF DEFENSE

Office of the Secretary

[Docket ID: DOD-2009-OS-0079]

Privacy Act of 1974; System of Records

AGENCY: National Security Agency/Central Security Service, DoD.

ACTION: Notice to alter a System of Records.

SUMMARY: The National Security Agency/Central Security Service is proposing to alter an exempt system of records to its existing inventory of record systems subject to the Privacy Act of 1974, (5 U.S.C. 552a), as amended.

DATES: This proposed action would be effective without further notice on July 16, 2009 unless comments are received which result in a contrary determination.

ADDRESSES: Send comments to the National Security Agency/Central Security Service, Office of Policy, 9800 Savage Road, Suite 6248, Ft. George G. Meade, MD 20755-6248.

FOR FURTHER INFORMATION CONTACT: Ms. Anne Hill at (301) 688-6527.

SUPPLEMENTARY INFORMATION: The National Security Agency's record system notices for records systems subject to the Privacy Act of 1974 (5 U.S.C. 552a), as amended, have been published in the Federal Register and are available from the address above.

The proposed system report, as required by 5 U.S.C. 552a(r) of the Privacy Act of 1974, as amended, was submitted on May 21, 2009, to the House Committee on Oversight and Government Reform, the Senate Committee on Homeland Security and Governmental Affairs, and the Office of Management and Budget (OMB) pursuant to paragraph 4c of Appendix I to OMB Circular No. A-130, “Federal Agency Responsibilities for Maintaining Records About Individuals”, dated February 8, 1996 (February 20, 1996, 61 FR 6427).

Dated: June 4, 2009.
Morgan E. Frazier,
Alternate OSD Federal Register Liaison Officer, Department of Defense.

GNSA 10

System name:

NSA/CSS Personnel Security File (February 22, 1993, 58 FR 10531).

Changes:

* * * * *

Categories of records in the system:

Delete entry and replace with “Records relevant to access classified information, assignment and reassignment, foreign official and unofficial travel, access to NSA/CSS spaces or facilities, access to NSA's Intranet, and other personnel actions where security represents a relevant and valid element of the determination. Records may consist of name, Social Security Number (SSN), home address, home phone number, security file number, statement of personal history, photograph, fingerprint data, agreements with respect to specific security processing procedures, security processing forms and records, investigative and polygraph reports, appeal records, incident and complaint reports, unsolicited information when relevant, reports by domestic law enforcement agencies when relevant, clearance data, access authorization, foreign travel data, security secrecy agreements and financial data”.

Authority for maintenance of system:

Delete entry and replace with “50 U.S.C. Sections 831-835, Personnel Security Procedures in the National Security Agency; E.O. 10450, as amended, Security Requirements for Government Employment; E.O. 10865, as amended, Safeguarding Classified Information Within Industry, E.O. 12968, Access to Classified Information; and E.O. 9397 (SSN)”.

Purpose(s):

Delete entry and replace with “The records are used for the purpose of determining suitability, eligibility, or qualification for civil employment, Federal contracts, or access to classified information and/or NSA/CSS spaces and facilities; to determine access to NSA's Intranet, to determine and ensure continued eligibility for access to classified information; to record adjudicative actions and determinations; to record processing steps taken; to document due process actions taken; to make determinations on official and unofficial foreign travel; to make determinations on assignment and reassignment and other actions where security represents a relevant and valid element of the determination”.

Routine use of the records maintained in the system, including categories of users and the purpose of such uses:

Delete entry and replace with “In addition to those disclosures generally permitted under 5 U.S.C. 552a(b) of the Privacy Act of 1974, these records contained therein may specifically be disclosed outside the DoD as a routine use pursuant to 5 U.S.C. 552a(b)(3) as follows:

To agencies outside DoD, to include but not limited to other clearance holder agencies or agencies charged with making clearance determinations, government agencies involved with national security or clearance investigations, other government agencies and private contractors requiring clearance status information and authorized to receive same; the Director National Intelligence (DNI) and his General Counsel in the event of litigation or anticipated litigation with respect to unauthorized disclosures of classified intelligence or intelligence sources and methods and related court actions; judicial branch elements pursuant to specific court orders or litigation.

In addition, other government agencies or private contractors may be informed of information developed by NSA which bears on assignee's or affiliate's status at NSA with regard to security considerations.

To local law enforcement (county and State) and other Federal, State, or local agencies or departments for hiring purposes.

To any entity or individual under contract with NSA/CSS for the purpose of providing security-related services.

To any party, council, representative, and/or witness in any legal proceeding, where pertinent, to which DoD is a party before a court or administrative body (including, but not limited to, the Equal Employment Opportunity Commission and Merit System Protection Board).

The DoD `Blanket Routine Uses' set forth at the beginning of the NSA/CSS' compilation of systems of records notices apply to this system”.

Policies and practices for storing, retrieving, accessing, retaining, and disposing of records in the system:

Storage:

Delete entry and replace with “Paper in file folders and electronic storage media”.

Retrievability:

Delete entry and replace with “By name, Social Security Number (SSN), or unique Security File Number”.

Safeguards:

Delete entry and replace with “Buildings are secured by a series of guarded pedestrian gates and checkpoints. Access to facilities is limited to security-cleared personnel and escorted visitors only. Within the facilities themselves, access to paper and computer printouts are controlled by limited-access facilities and lockable containers. Access to electronic means is limited and controlled by computer password protection”.

Retention and disposal:

Delete entry and replace with “Records containing no derogatory information are reviewed for retention 10 years after date of last action then destroyed; records containing derogatory information are reviewed for retention 25 years after last action then destroyed.

Records are destroyed by pulping, burning, shredding, or erasure or destruction of magnet media”.

System manager(s) and address:

Delete entry and replace with “The Associate Director for Security and Counterintelligence, National Security Agency/Central Security Service, Ft. George G. Meade, MD 20755-6000”.

Notification procedure:

Delete entry and replace with “Individuals seeking to determine whether information about themselves is contained in this system should address written inquiries to the National Security Agency/Central Security Service, Freedom of Information Act/Privacy Act Office, 9800 Savage Road, Suite 6248, Ft. George G. Meade, MD 20755-6248.

Written inquiries should contain the individual's full name, Social Security Number (SSN) and mailing address”.

Record access procedures:

Delete entry and replace with “Individuals seeking access to information about themselves contained in this system should address written inquiries to the National Security Agency/Central Security Service, Freedom of Information Act/Privacy Act Office, 9800 Savage Road, Suite 6248, Ft. George G. Meade, MD 20755-6248.

Written inquiries should contain the individual's full name, Social Security Number (SSN) and mailing address”.

Contesting record procedures:

Delete entry and replace with “The NSA/CSS rules for contesting contents and appealing initial determinations are published at 32 CFR part 322 or may be obtained by written request addressed to the National Security Agency/Central Security Service, Freedom of Information Act/Privacy Act Office, 9800 Savage Road, Suite 6248, Ft. George G. Meade, MD 20755-6248”.

Record source categories:

Delete entry and replace with “Data provided by individual during employment and security processing; data provided by investigative service processing individual's background; data provided by references, educational institutions and other sources named by individual or developed during background investigation; unsolicited data from any source where relevant; data provided by the Office of Personnel Management and other agencies, departments, and governmental elements involved in the conduct of National Agency checks and Local Agency checks; the Federal Bureau of Investigation; data developed by appropriate governmental elements in the course of a national security investigation or investigation into alleged violations of criminal statutes related to unauthorized disclosure of intelligence or protection of intelligence sources and methods; documents furnished by agency element sponsoring individual for access to specific classified information”.

* * * * *

GNSA 10

System name:

NSA/CSS Personnel Security File.

System location:

National Security Agency/Central Security Service, 9800 Savage Road, Ft. George G. Meade, MD 20755-6000.

Categories of individuals covered by the system:

Applicants for employment with NSA/CSS; civilian employees; personnel under contract; military assignees; members of advisory groups; consultants; experts; other military personnel; Federal employees; employees of contractors, and employees of services; other individuals who require access to NSA/CSS facilities or information and individuals who were formerly affiliated with NSA/CSS.

Categories of records in the system:

Records relevant to access classified information, assignment and reassignment, foreign official and unofficial travel, access to NSA/CSS spaces or facilities, access to NSA's Intranet, and other personnel actions where security represents a relevant and valid element of the determination. Records may consist of name, social security number, home address, home phone number, security file number, statement of personal history, photograph, fingerprint data, agreements with respect to specific security processing procedures, security processing forms and records, investigative and polygraph reports, appeal records, incident and complaint reports, unsolicited information when relevant, reports by domestic law enforcement agencies when relevant, clearance data, access authorization, foreign travel data, security secrecy agreements, and financial data.

Authority for maintenance of the system:

50 U.S.C. Sections 831-835, Personnel Security Procedures in the National Security Agency; E.O.10450, as amended, Security Requirements for Government Employment; E.O.10865, as amended, Safeguarding Classified Information Within Industry; E.O.12968, Access to Classified Information; and E.O 9397 (SSN).

Purpose(s):

The records are used for the purpose of determining suitability, eligibility, or qualification for civil employment, Federal contracts, or access to classified information and/or NSA/CSS spaces and facilities; to determine access to NSA's Intranet, to determine and ensure continued eligibility for access to classified information; to record adjudicative actions and determinations; to record processing steps taken; to document due process actions taken; to make determinations on official and unofficial foreign travel; to make determinations on assignment and reassignment and other actions where security represents a relevant and valid element of the determination.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To agencies outside DoD, to include but not limited to other clearance holder agencies or agencies charged with making clearance determinations, government agencies involved with national security or clearance investigations, other government agencies and private contractors requiring clearance status information and authorized to receive same; the Director of National Intelligence and his General Counsel in the event of litigation or anticipated litigation with respect to unauthorized disclosures of classified intelligence or intelligence sources and methods and related court actions; judicial branch elements pursuant to specific court orders or litigation.

In addition, other government agencies or private contractors may be informed of information developed by NSA which bears on an assignee's or affiliate's status at NSA with regard to security considerations.

To local law enforcement (county and State) and other Federal, State, or local agencies or departments for hiring purposes.

To any entity or individual under contract with NSA/CSS for the purpose of providing security-related services.

To any party, counsel, representative, and/or witness in any legal proceeding, where pertinent, to which DoD is a party before a court or administrative body (including, but not limited to, the Equal Employment Opportunity Commission and Merit Systems Protection Board).

The DoD “Blanket Routine Uses” set forth at the beginning of the NSA/CSS' compilation of systems of records notices apply to this system.

Policies and practices for storing, retrieving, accessing, retaining, and disposing of records in the system:

Storage:

Paper records in file folders and electronic storage media.

Retrievability:

By name, Social Security Number (SNN), or unique Security File number.

Safeguards:

Buildings are secured by a series of guarded pedestrian gates and checkpoints. Access to facilities is limited to security-cleared personnel and escorted visitors only. Within the facilities themselves, access to paper and computer printouts is controlled by limited-access facilities and lockable containers. Access to electronic means is limited and controlled by computer password protection.

Retention and disposal:

Records containing no derogatory information are reviewed for retention 10 years after date of last action then destroyed; records containing derogatory information are reviewed for retention 25 years after last action then destroyed.

Records are destroyed by pulping, burning, shredding, or erasure or destruction of magnet media.

System manager(s) and address:

The Associate Director for Security and Counterintelligence, National Security Agency/Central Security Service, Ft. George G. Meade, MD 20755-6000.

Notification procedure:

Individuals seeking to determine whether information about themselves is contained in this system should address written inquiries to the National Security Agency/Central Security Service, Freedom of Information Act/Privacy Act Office, 9800 Savage Road, Suite 6248, Ft. George G. Meade, MD 20755-6248.

Written inquiries should contain the individual's full name, Social Security Number (SSN) and mailing address.

Record access procedures:

Individuals seeking access to information about themselves contained in this system should address written inquiries to the National Security Agency/Central Security Service, Freedom of Information Act/Privacy Act Office, 9800 Savage Road, Suite 6248, Ft. George G. Meade, MD 20755-6248.

Written inquiries should contain the individual's full name, Social Security Number (SSN) and mailing address.

Contesting record procedures:

The NSA/CSS rules for contesting contents and appealing initial determinations are published at 32 CFR part 322 or may be obtained by written request addressed to the National Security Agency/Central Security Service, Freedom of Information Act/Privacy Act Office, 9800 Savage Road, Suite 6248, Ft. George G. Meade, MD 20755-6248.

Record source categories:

Data provided by individual during employment and security processing; data provided by investigative service processing individual's background; data provided by references, educational institutions and other sources named by individual or developed during background investigation; unsolicited data from any source where relevant; data provided by the Office of Personnel Management and other agencies, departments, and governmental elements involved in the conduct of National Agency checks and Local Agency checks; the Federal Bureau of Investigation; data developed by appropriate governmental elements in the course of a national security investigation or investigation into alleged violations of criminal statutes related to unauthorized disclosure of intelligence or protection of intelligence sources and methods; documents furnished by agency element sponsoring individual for access to specific classified information.

Exemptions claimed for the system:

Individual records in this file may be exempt pursuant to 5 U.S.C. 552a (k)(2), (k)(5), and (k)(6), as applicable.

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of such information, the individual will be provided access to the information exempt to the extent that disclosure would reveal the identity of a confidential source. Note: When claimed, this exemption allows limited protection of investigative reports maintained in a system of records used in personnel or administrative actions.

Investigatory material compiled solely for the purpose of determining suitability, eligibility, or qualifications for Federal civilian employment, military service, Federal contracts, or access to classified information may be exempt pursuant to 5 U.S.C. 552a(k)(5), but only to the extent that such material would reveal the identity of a confidential source.

Testing or examination material used solely to determine individual qualifications for appointment or promotion in the Federal or military service, if the disclosure would compromise the objectivity or fairness of the test or examination process may be exempt pursuant to 5 U.S.C. 552a(k)(6), if the disclosure would compromise the objectivity or fairness of the test or examination process.

An exemption rule for this record system has been promulgated according to the requirements of 5 U.S.C. 553(b)(1), (2), and (3), (c) and (e) and published in 32 CFR part 322. For additional information contact the system manager.

[FR Doc. E9-14097 Filed 6-15-09; 8:45 am]

BILLING CODE 5001-06-P